DEPARTMENT OF TRANSPORTATION

Research and Innovative Technology Administration

[Docket Number: RITA-2008-0002]

Agency Information Collection Activity; Notice of Request for Public Comment and Submission to OMB for Information Collection: Confidential Close Call Reporting for Transit Rail System

AGENCY: Bureau of Transportation Statistics (BTS), Research and Innovative Technology Administration (RITA), U.S. Department of Transportation.

ACTION: Notice.

SUMMARY: In accordance with the requirements of section 3506(c)(2)(A) of the Paperwork Reduction Act of 1995, BTS announces its plan to submit the Information Collection Request (ICR) described below to the Office of Management and Budget (OMB) for approval. On November 5, 2012, BTS published a Federal Register notice (77 FR 66502), allowing for a 60-day comment period on the ICR. The comment period closed on January 4, 2013. The agency received one comment, from the National Safety Council (NSC), Docket Comment RITA-2008-0002-0037, in response to the notice which supported the need for the information collection. The NSC comment stated they agreed with BTS that ” there is a need for proper data collection and analysis on close calls and other unsafe occurrences in the WMATA rail system.” The purpose of this Notice is to allow 30 days for public comment to OMB on this collection from all interested individuals and organizations.

DATES: Written comments should be submitted by March 21, 2013.

FOR FURTHER INFORMATION CONTACT: Demetra V. Collia, Bureau of Transportation Statistics, Research and Innovative Technology Administration, U.S. Department of Transportation, Office of Advanced Studies, RTS-31, 1200 New Jersey Avenue SE., Washington, DC 20590-0001; Phone No. (202) 366-1610; Fax No. (202) 366-3383; email: demetra.collia@dot.gov.

Data Confidentiality Provisions: The confidentiality of Close Call data is protected under the BTS confidentiality statute (49 U.S.C. 6307) and the Confidential Information Protection and Statistical Efficiency Act (CIPSEA) of 2002 (Pub. L. 107-347, Title V). In accordance with these confidentiality statutes, only statistical and non-identifying data will be made publicly available through any reports. BTS will not release to WMATA/ATU or any other public or private entity any information that might reveal the identity of individuals or organizations mentioned in close call reports without explicit consent of the respondent.

SUPPLEMENTARY INFORMATION:

I. The Data Collection

The Paperwork Reduction Act of 1995 (44 U.S.C. chapter 35; as amended) and 5 CFR part 1320 require each Federal agency to obtain OMB approval to initiate an information collection activity. BTS is seeking OMB approval for the following BTS information collection activity:

Title: Confidential Close Call Reporting for Transit Rail System

OMB Control Number: TBD.

Type of Review: Approval of data collection.

Respondents: WMATA rail employees.

Number of Respondents: 400 (per annum).

Estimated Time per Response: 1 hour.

Frequency: Intermittent for 5 years. (Reports are submitted when there is a qualifying event, i.e., when a close call occurs within WMATA's rail system).

Total Annual Burden: 400 hours.

ADDRESSES: The agency seeks public comments on its proposed information collection. Comments should address whether the information will have practical utility; the accuracy of the agency's estimate of the burden of the proposed information collection; ways to enhance the quality, utility and clarity of the information to be collected; and ways to minimize the burden of the collection of information on respondents, including the use of automated collection techniques or other forms of information technology. Send comments to the Office of Information and Regulatory Affairs, Office of Management and Budget, 725-17th Street NW., Washington, DC 20503, Attention: BTS Desk Officer.

Issued on: February 11, 2013.
Patricia Hu,
Director, Bureau of Transportation Statistics, Research and Innovative Technology Administration.

[FR Doc. 2013-03694 Filed 2-15-13; 8:45 am]

BILLING CODE 4910-HY-P